Title 3—

The President

Proclamation 10452 of September 19, 2022

National Voter Registration Day, 2022

By the President of the United States of America

A Proclamation

The right to vote is the foundation of our democracy—it defines us as Americans and serves as the cornerstone of our liberty. With it, anything is possible in America; without it, nothing is. It is a legacy passed down by our greatest leaders—a legacy which provides each one of us with a voice in the creation of a better Nation. It is the source of our power as citizens, our mightiest tool of social transformation, and the stabilizing tradition that confers legitimacy to our system of Government. Each year on National Voter Registration Day, we reaffirm our conviction that democracy only works when everyone can participate, and we encourage all eligible Americans to register to vote.

Our Nation has not always lived up to its promise of equal access to the right to vote, and so many Americans have struggled, suffered, and died fighting for a say in the destiny of our country. From Seneca Falls, New York, to Selma, Alabama, to Washington, DC—and across America—ordinary people have organized to protest disenfranchisement and won. The efforts of these courageous women and men have led to the passage of landmark civil rights legislation like the Voting Rights Act, the National Voter Registration Act, and the Help America Vote Act, which extended the blessings of democracy to millions of citizens. Lately, however, those protections have been weakened by decisions of the Supreme Court of the United States. Now, State legislatures are passing new forms of voting restrictions to limit participation and choose whose vote can count at all. As the late Representative John Lewis, an icon of the voting rights struggle, would say, “democracy is not a state; it is an act.” Our Founding Fathers understood this, as did the suffragists at the National Women's Rights Convention of 1848, the other giants of the Civil Rights Movement, and today's activists working for a freer, fairer, and more accessible voting system. Just as securing and protecting voting rights was the test of their times, it continues to be the challenge of ours.

As President, I will do everything in my power to protect the right to vote and ensure that every American has a free and fair opportunity to exercise this fundamental liberty. This means appointing highly qualified advocates to the Department of Justice and doubling the agency's voting rights enforcement staff to ensure the Department has the resources to fight voter suppression in the courts. It also means issuing an Executive Order to establish a whole-of-government effort to promote access to voter registration and election information, especially in some of our most underserved communities. I have directed my Administration to take historic action to help college students and veterans register effectively. I continue to call on the Congress to pass the Freedom to Vote Act and the John Lewis Voting Rights Advancement Act. These laws would address election subversion, remove dark money from politics, end partisan gerrymandering, and fix the gaping holes in voter access left by the Supreme Court of the United States. They would also allow the Justice Department to halt discriminatory laws before they go into effect.

In celebration of National Voter Registration Day, let us honor the heroes who fought to secure voting rights and expand them. I call on all eligible Americans to ensure that their registration is up to date and to encourage their family, neighbors, and friends to do the same. Let us all remain engaged with the ongoing struggle to build an America where every vote matters and where every citizen has the ability and the right to participate freely in the democratic process. We cannot give up now. The future of our Nation depends on it. To learn more about how to register or check your voter registration information, you can visit vote.gov.

NOW, THEREFORE, I, JOSEPH R. BIDEN JR., President of the United States of America, by virtue of the authority vested in me by the Constitution and the laws of the United States, do hereby proclaim September 20, 2022, as National Voter Registration Day. I call on all eligible Americans to observe this day by ensuring that they are accurately registered and by committing to cast a ballot in upcoming elections.

IN WITNESS WHEREOF, I have hereunto set my hand this nineteenth day of September, in the year of our Lord two thousand twenty-two, and of the Independence of the United States of America the two hundred and forty-seventh.

[FR Doc. 2022-20695

Filed 9-21-22; 8:45 am]

Billing code 3395-F2-P